DEPARTMENT OF COMMERCE

National Oceanic and Atmospheric Administration

[I.D. 112205B]

Fisheries of the Gulf of Mexico; Fisheries of the South Atlantic; Southeastern Data, Assessment, and Review (SEDAR); Gulf of Mexico Gag Grouper; South Atlantic Gag Grouper

AGENCY: National Marine Fisheries Service (NMFS), National Oceanic and Atmospheric Administration (NOAA), Commerce.

ACTION: Notice of SEDAR Workshops for Gulf of Mexico and South Atlantic gag grouper.

SUMMARY: The SEDAR assessments of the Gulf of Mexico stock of gag grouper and the South Atlantic stock of gag grouper will consist of a series of three workshops: a Data Workshop, an Assessment Workshop, and a Review Workshop. This is the tenth SEDAR. See SUPPLEMENTARY INFORMATION.

DATES: The Data Workshop will take place January 23-27, 2006; the Assessment Workshop will take place May 1-5, 2006; the Review Workshop will take place June 26-30, 2006. See SUPPLEMENTARY INFORMATION.

ADDRESSES: The Data Workshop will be held at the Doubletree Guest Suites, 181 Church Street, Charleston SC 29401. (877) 408-8733. The Assessment Workshop will be held at the Wyndham Grand Bay, 2669 South Bayshore Drive, Miami FL 33133. (305) 868-9600. The Review Workshop will be held at the Doubletree Buckhead, 3342 Peachtree Road NE, Atlanta GA 30326. (404) 231-1234.

FOR FURTHER INFORMATION CONTACT: Steven Atran, Gulf of Mexico Fishery Management Council (GMFMC), 3018 North U. S. Highway 301, Tampa, FL 33619. Phone: (813) 228-2815 or (888) 833-1844. John Carmichael, SEDAR Coordinator, 1 Southpark Circle #306, Charleston, SC 29414. (843) 571-4366.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR includes three workshops: 1) Data Workshop, 2) Stock Assessment Workshop and 3) Review Workshop. The product of the Data Workshop is a data report which compiles and evaluates potential datasets and recommends which datasets are appropriate for assessment analyses. The product of the Stock Assessment Workshop is a stock assessment report which describes the fisheries, evaluates the status of the stock, estimates biological benchmarks, projects future population conditions, and recommends research and monitoring needs. The assessment is independently peer reviewed at the Review Workshop.

The products of the Review Workshop are a Consensus Summary documenting Panel opinions regarding the strengths and weaknesses of the stock assessment and input data, and an Advisory Report summarizing stock status and recommending management criteria. Participants for SEDAR Workshops, appointed by the regional Fishery Management Councils, NOAA Fisheries' Southeast Regional Office (SERO), and NOAA Fisheries' Southeast Fisheries Science Center (SEFSC), include data collectors and database managers; stock assessment scientists, biologists, and researchers; constituency representatives including fishermen, environmentalists, and Non-governmental Organizations (NGOs); International experts; and staff of Councils, Commissions, and state and federal agencies.

SEDAR 10 Workshop Schedule:

January 23-27, 2006; SEDAR 10 Data Workshop

January 23, 2006, 1 p.m.-8 p.m., January 24-26, 2006, 8 a.m.-8 p.m., and January 27, 2006, 8 a.m.-1 p.m. An assessment data set and associated documentation will be developed during the Data Workshop. Participants will evaluate all available data and select appropriate sources for providing information on life history characteristics, catch statistics, discard estimates, length and age composition, and fishery dependent and fishery independent measures of stock abundance.

May 1-5, 2006 SEDAR 10 Assessment Workshop

May 1, 2006, 1 p.m.-8 p.m., May 2-4, 2006, 8 a.m.-8 p.m., and May 5, 2006, 8 a.m.-1 p.m. Using datasets provided by the Data Workshop, participants will develop population models to evaluate stock status, estimate population benchmarks and Sustainable Fisheries Act criteria, and project future conditions. Participants will recommend the most appropriate methods and configurations for determining stock status and estimating population parameters. Participants will prepare a workshop report, compare and contrast various assessment approaches, and determine whether the assessments are adequate for submission to the review panel.

June 26-30, 2006. SEDAR 10 Review Workshop

June 26, 2006, 1 p.m.-8 p.m., June 27-29, 2006, 8 a.m.-8 p.m., June 30, 2006, 8 a.m.-1 p.m.

The Review Workshop is an independent peer review of the assessment developed during the Data and Assessment Workshops. Workshop Panelists will review the assessment and document their comments and recommendations in a Consensus Summary. Panellists will summarize recommended population parameter estimates in an Advisory Report.

Special Accommodations

These meetings are physically accessible to people with disabilities. Requests for sign language interpretation or other auxiliary aids should be directed to the Council office (see ADDRESSES) at least 5 business days prior to each workshop.

Dated: November 22, 2005.
Tracey L. Thompson,
Acting Director, Office of Sustainable Fisheries, National Marine Fisheries Service.

[FR Doc. E5-6552 Filed 11-25-05; 8:45 am]

BILLING CODE 3510-22-S